DEPARTMENT OF HOUSING AND URBAN DEVELOPMENT

24 CFR Part 570

[Docket Nos. FR 5797-I-01 and FR 5797-C-02]

RIN 2506-AC39

Changes to Accounting Requirements for the Community Development Block Grants (CDBG) Program; Correction

AGENCY: Office of the General Counsel, HUD.

ACTION: Interim final rule; correction.

SUMMARY: This document corrects a technical error in HUD's interim final rule on CDBG accounting requirements, published November 12, 2015.

DATES: Effective date: December 14, 2015.

FOR FURTHER INFORMATION CONTACT: Stanley Gimont, Director, Office of Block Grant Assistance, Department of Housing and Urban Development, Office of Community Planning and Development, 451 7th Street SW., Suite 7286, Washington, DC 20410 at 202-708-3587, (this is not a toll-free number). Individuals with speech or hearing impairments may access this number via TTY by calling the Federal Relay Service, toll-free, at 800-877-8339.

SUPPLEMENTARY INFORMATION: HUD published a document in the Federal Register on November 12, 2015, at 80 FR 69864, amending the accounting requirements for the CDBG program, including 24 CFR 570.489. The amendments included clarification of how HUD determines compliance with planning and administration cost limits. In the preamble to the rule, at page 69867, first column, HUD stated that the regulations revised by rule modify the limits on administrative and planning expenses by adding to the existing compliance test a new test for grants with an origin year of 2015and subsequent years, which would continue to remain in place for all grants. However, language was inadvertently included in the regulatory text that limited the existing test to CDBG grants with an origin year prior to 2015. This document corrects that limiting language.

Correction

In interim final rule FR Doc. 2015-28700, published on November 12, 2015 (80 FR 69864), make the following correction:

On page 69872, in the first column, in § 570.489, correct paragraph (a)(3)(ii) to read as follows:

§ 570.489 Program administrative requirements.

(a) * * *

(3) * * *

(ii) The combined expenditures by the State and its funded units of general local government for planning, management, and administrative costs shall not exceed 20 percent of the aggregate amount of the origin year grant, any origin year grant funds reallocated by HUD to the State, and the amount of any program income received during the program year.

* * * * *

Dated: November 13, 2015.
Camille Acevedo,
Associate General Counsel for Legislation and Regulations.

[FR Doc. 2015-29478 Filed 11-17-15; 8:45 am]

BILLING CODE 4210-67-P